DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995.

Proposed Project: National Health Service Corps Information Follow-up Form—New

The National Health Service Corps (NHSC) of the Bureau of Clinician Recruitment and Service, HRSA, is committed to improving the health of the Nation's underserved by uniting communities in need with caring health professionals and by supporting communities' efforts to build better systems of care.

The NHSC Information Follow-up Form, which NHSC will use when exhibiting at national and regional conferences as well as when presenting on campuses to health profession students, is an optional form that a health profession student, licensed clinician, faculty member, or clinical site administrator can fill out. Individuals who submit the form to NHSC, may ask questions and/or sign up to receive periodic program updates and other general information regarding opportunities with the NHSC via e-mail. An individual is free to discontinue receiving communication from NHSC at anytime by e-mailing NHSCupdate@hrsa.gov. Completed forms will contain information such as, the names of the individuals, their email address(es), their city and state, their phone number, the organization where they are employed (or the school which they attend), the year they intend to graduate (if applicable), how they heard about NHSC, which NHSC programs they are interested in, etc. Assistance in completing the form will be given by the BCRS staff person (or BCRS representative) who is present at the event. Based on the FY10 exhibit and presentation schedule, NHSC could have gathered information from 2,400 individuals. Using this as a guide for future years, the estimated annual burden is as follows:

Form | Number of respondents | Responses per respondent | Total responses | Hours per response | Total burden hours
Information Follow-up Form | 2400 | 1 | 2400 | .025 (90 seconds) | 60
Total | 2400 | 1 | 2400 | .025 (90 seconds) | 60

Written comments and recommendations concerning the proposed information collection should be sent within 30 days of this notice to the desk officer for HRSA, either by e-mail to OIRA_submission@omb.eop.gov or by fax to 202-395-6974. Please direct all correspondence to the “attention of the desk officer for HRSA.”

Dated: October 20, 2010.
Robert Hendricks,
Director, Division of Policy and Information Coordination.

[FR Doc. 2010-27284 Filed 10-27-10; 8:45 am]

BILLING CODE 4165-15-P